DEPARTMENT OF COMMERCE

National Oceanic and Atmospheric Administration

RIN 0648-XE108

Pacific Fishery Management Council; Public Meeting

AGENCY: National Marine Fisheries Service (NMFS), National Oceanic and Atmospheric Administration (NOAA), Commerce.

ACTION: Notice; public meeting.

SUMMARY: The Pacific Fishery Management Council's (Pacific Council) Salmon Technical Team (STT), Salmon Advisory Subpanel (SAS), and Model Evaluation Workgroup (MEW) will hold a webinar, which is open to the public.

DATES: The webinar will be held on Wednesday, September 2, 2015, from 1:30 p.m. until business for the day is complete.

ADDRESSES: To attend the webinar, visit: http://www.gotomeeting.com/online/webinar/join-webinar. Enter the Webinar ID, which is 131-126-235, and your name and email address (required). Participants are encouraged to use their telephone, as this is the best practice to avoid technical issues and excessive feedback. (See the PFMC GoToMeeting Audio Diagram (http://t.sidekickopen14.com/e1t/c/5/f18dQhb0S7lC8dDMPbW2n0x6l2B9nMJW7t5XYg8pTkCFVfmWRK8qm29WW2zq3QW56dJHNf6V05r202?t=http%3A%2F%2Fwww.pcouncil.org%2Fwp-content%2Fuploads%2FPFMC_Audio_Diagram_GoToMeeting.pdf&si=6706403137290240&pi=3e8f7565-3109-406a-8f2d-c0dfb39dbb8d) for best practices). Please use your telephone for the audio portion of the meeting by dialing this TOLL number +1 (562) 247-8321 (not a toll-free number); then enter the Attendee phone audio access code 321-364-024; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to Mr. Kris Kleinschmidt (kris.kleinschmidt@noaa.gov) or contact him at (503) 820-2280, extension 425 for technical assistance. A public listening station will also be provided at the Pacific Council office.

Council address: Pacific Council, 7700 NE. Ambassador Place, Suite 101, Portland, Oregon 97220-1384.

FOR FURTHER INFORMATION CONTACT: Mr. Mike Burner, Pacific Council, (503) 820-2414.

SUPPLEMENTARY INFORMATION: The STT, SAS, and MEW will discuss items on the Pacific Council's September 2015 meeting agenda. Major topics include: Salmon Methodology Review, Sacramento River Winter Chinook Update, 2016 Pacific Halibut Catch Sharing Plan and Annual Regulations, and the Unmanaged Forage Fish Regulations. Other topics may include one or more of the Pacific Council's scheduled Administrative Matters. Public comments during the webinar will be received from attendees at the discretion of the STT, SAS, and MEW Chairs.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280, extension 425 at least 5 days prior to the meeting date.

Dated: August 12, 2015.
Tracey L. Thompson,
Acting Deputy Director, Office of Sustainable Fisheries, National Marine Fisheries Service.

[FR Doc. 2015-20204 Filed 8-14-15; 8:45 am]

BILLING CODE 3510-22-P